DEPARTMENT OF ENERGY

Notice of Orders Issued Under Section 3 of the Natural Gas Act During June 2018

AGENCY: Office of Fossil Energy, Department of Energy.

ACTION: Notice of orders.

| FE Docket Nos.
Sabine Pass Liquefaction, LLC | 18-35-LNG
Southwest Energy, L.P | 18-63-NG
BP Energy Company | 18-64-LNG
Galveston Bay LNG, LLC | 17-167-LNG
Infinite Energy, Inc | 18-65-NG
Blue Water Fuels, LLC | 18-27-LNG
St. Lawrence Gas Company, Inc | 18-68-NG
Pharaoh Solutions LLC | 18-66-NG
Concord Energy LLC | 18-67-NG

SUMMARY: The Office of Fossil Energy (FE) of the Department of Energy gives notice that during June 2018, it issued orders granting authority to import and export natural gas, and to import and export liquefied natural gas (LNG). These orders are summarized in the attached appendix and may be found on the FE website at https://www.energy.gov/fe/listing-doefe-authorizationsorders-issued-2018-0.

They are also available for inspection and copying in the U.S. Department of Energy (FE-34), Division of Natural Gas Regulation, Office of Regulation and International Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on July 20, 2018.
Amy Sweeney,
Director, Division of Natural Gas Regulation.

Appendix—DOE/FE Orders Granting Import/Export Authorizations
4197 | 06/04/18 | 18-35-LNG | Sabine Pass Liquefaction, LLC | Order 4197 granting blanket authority to export previously imported LNG by vessel to Free Trade Agreement Nations and Non-Free Trade Agreement Nations.
4198 | 06/08/18 | 18-63-NG | Southwest Energy, L.P | Order 4198 granting blanket authority to import/export natural gas from/to Canada/Mexico.
4199 | 06/08/18 | 18-64-LNG | BP Energy Company | Order 4199 granting blanket authority to import LNG from various international sources by vessel.
4200 | 06/13/18 | 17-167-LNG | Galveston Bay LNG, LLC | Order 4200 granting long-term, multi-contract authority to export LNG by vessel from the proposed Galveston Bay LNG Project, to be located in Texas City, Texas, to Free Trade Agreement Nations.
4201 | 06/14/18 | 18-65-NG | Infinite Energy, Inc | Order 4201 granting blanket authority to import/export natural gas from/to Canada.
4202 | 06/25/18 | 18-27-LNG | Blue Water Fuels, LLC | Order 4202 granting long-term, multi-contract authority to export LNG in ISO containers or in bulk loaded at the HR NU BLU Energy, LLC Liquefaction Facility in Port Allen, Louisiana, and exported by vessel to Free Trade Agreement Nations.
4203 | 06/29/18 | 18-68-NG | St. Lawrence Gas Company, Inc | Order 4203 granting blanket authority to import natural gas from Canada.
4204 | 06/29/18 | 18-66-NG | Pharaoh Solutions LLC | Order 4204 granting blanket authority to export natural gas to Mexico.
4205 | 06/29/18 | 18-67-NG | Concord Energy LLC | Order 4205 granting blanket authority to import/export natural gas from/to Canada/Mexico.

[FR Doc. 2018-15940 Filed 7-25-18; 8:45 am]

BILLING CODE 6450-01-P